DEPARTMENT OF THE INTERIOR

Fish and Wildlife Service

[FWS-R1-ES-2015-N079; FXES11120100000-156-FF01E00000]

Receipt of Enhancement of Survival Permit Applications Developed in Accordance With the Template Safe Harbor Agreement for the Columbia Basin Pygmy Rabbit

AGENCY: Fish and Wildlife Service, Interior.

ACTION: Notice of receipt of applications; request for comments.

SUMMARY: The Fish and Wildlife Service (Service) announces the receipt of nine Enhancement of Survival Permit applications that were developed in accordance with the Template Safe Harbor Agreement (Template SHA) for the Columbia Basin pygmy rabbit (Brachylagus idahoensis) and pursuant to section 10(a)(1)(A) of the Endangered Species Act of 1973, as amended (Act). The nine permit applicants are: (1) Morris Farms; (2) Overen Living Trust; (3) North Ranches, LLC; (4) Baird Springs Environmental; (5) Buster Boruff, LLC; (6) Ms. Susan Chace; (7) Mr. Garey Clements; (8) Mr. Greg Lehr and Ms. Christine Lehr; and (9) Sandygren Properties Limited Partnership. Issuance of permits to these applicants would exempt incidental take of the Columbia Basin pygmy rabbit, which would otherwise be prohibited by section 9 of the Act, that is above the baseline conditions of properties enrolled under the Template SHA and that may result from the permittees' otherwise lawful land-use activities. The Service requests comments from the public regarding the proposed issuance of permits to these nine applicants.

DATES: To be fully considered, written comments from interested parties must be received on or before July 20, 2015.

ADDRESSES: To request further information or submit written comments, please use one of the following methods, and note that your information request or comments are in reference to the “Pygmy Rabbit SHAA.”

• Email: wfwocomments@fws.gov. Include “Pygmy Rabbit SHAA” in the subject line of the message.

• Fax: 509-891-6748, Attn: Russ MacRae, Assistant Project Leader. Include “Pygmy Rabbit SHAA” in the subject line of the message.

• U.S. Mail: Russ MacRae, Assistant Project Leader, Eastern Washington Field Office, U.S. Fish and Wildlife Service, 11103 East Montgomery Drive, Spokane, Washington 99206.

Document availability: Copies of the current permit applications, the Template SHA, and other relevant decision documents addressing the Service's proposed issuance of permits are available for review, subject to the requirements of the Privacy Act of 1974 (5 U.S.C. 552a) and Freedom of Information Act, by any of the following methods.

• Internet: You may access electronic copies on the Internet at http://www.fws.gov/wafwo/index.html.

• In-Person: Printed copies are available for public inspection, by appointment, during normal business hours at the Eastern Washington Field Office (see ADDRESSES).

FOR FURTHER INFORMATION CONTACT: Michelle Eames, U.S. Fish and Wildlife Service (see ADDRESSES); by telephone 509-893-8010. If you use a telecommunications device for the deaf (TDD), please call the Federal Information Relay Service (FIRS) at 800-877-8339.

SUPPLEMENTARY INFORMATION:

Background

On September 7, 2006, the Service announced the availability for public review and comment of a draft Template SHA, which was jointly developed by the Service and the Washington Department of Fish and Wildlife (WDFW), and a draft Environmental Assessment, which was developed by the Service pursuant to Federal responsibilities under the National Environmental Policy Act. The Service's September 7, 2006, notice also announced the receipt of three initial permit applications that were developed in accordance with the Template SHA. The final Template SHA, which contained only minor modifications from the draft released for public review, was signed by the Service and WDFW on October 24, 2006. To date, the Service has issued 17 permits under the Template SHA, which cover 137,626 acres that fall within the historic distribution of the Columbia Basin pygmy rabbit. The nine new applicants have requested to enroll an additional 11,446 acres of privately owned lands under the Template SHA.

The primary objective of the Template SHA is to facilitate collaboration between the Service, WDFW, and prospective participants to voluntarily implement conservation measures to benefit the Columbia Basin pygmy rabbit. Another objective of the Template SHA is to facilitate a process to provide incidental take coverage to participants through issuance of Enhancement of Survival Permits, which will relieve participants of additional section 9 liability under the Act if implementation of their conservation measures results in increased numbers or distribution of Columbia Basin pygmy rabbits on their enrolled properties.

The Service previously determined that implementation of the Template SHA, to include issuance of permits developed in accordance with the Template SHA, would result in conservation benefits to the Columbia Basin pygmy rabbit and would not result in significant effects to the human environment. The Service will evaluate any new information, the current permit applications, related documents, and any comments submitted thereon to determine whether they are consistent with the measures prescribed by the Template SHA and other relevant decision documents and permit issuance criteria. If it is determined that the requirements are met, permits to exempt incidental take of the Columbia Basin pygmy rabbit will be issued to the applicants. The final permit determinations will not be completed until after the end of the 30-day comment period, following our full consideration of all comments received.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. Comments and materials we receive, as well as supporting documentation we use in preparing the permits, will be available for public inspection by appointment, during normal business hours, at our Eastern Washington Field Office (see ADDRESSES).

The Service is furnishing this notice to provide the public, other Federal and State agencies, and interested Tribes an opportunity to review and comment on the Service's proposed issuance of permits to these applicants.

Authority

We provide this notice in accordance with the requirements of section 10 of the Act (16 U.S.C. 1531 et seq.).

Dated: May 22, 2015.
Richard Hannan,
Deputy Regional Director, Pacific Region, U.S. Fish and Wildlife Service, Portland, Oregon.

[FR Doc. 2015-14996 Filed 6-17-15; 8:45 am]

BILLING CODE 4310-55-P